DEPARTMENT OF ENERGY

Federal Energy Regulatory Commission

[Docket Nos. RP00-319-003 and RP00-598-003]

Discovery Gas Transmission LLC; Notice of Compliance Filing

December 24, 2002.

Take notice that on December 19, 2002, Discovery Gas Transmission LLC (Discovery) tendered for filing as part of its FERC Gas Tariff, Original Volume No. 1, the following tariffs sheets, to be effective September 1, 2002:

Second Revised Sheet No. 101, Second Revised Sheet No. 130

Second Revised Sheet No. 134, Second Revised Sheet No. 135

First Revised Sheet No. 136, Original Sheet No. 136A

First Revised Sheet No. 137, Second Revised Sheet No. 145

Third Revised Sheet No. 146, Third Revised Sheet No. 150

Third Revised Sheet No. 151, Second Revised Sheet No. 162

Seventh Revised Sheet No. 196, Original Sheet No. 197

Sheet Nos. 198-199, Second Revised Sheet No. 260

Discovery states that the filing is being made in compliance with two letter orders issued by the Commission the above-captioned proceeding on December 12, 2002.

Discovery further states that copies of the filing have been mailed to each of its customers, interested State Commissions and other interested persons.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: December 31, 2002.

Linwood A. Watson, Jr.,
Deputy Secretary.

[FR Doc. 02-32966 Filed 12-27-02; 8:45 am]

BILLING CODE 6717-01-P